NUCLEAR REGULATORY COMMISSION

[Docket No. 99902080; NRC-2025-1171]

Atomic Alchemy Operators LLC; VIPR Idaho LLC; Construction Permit Application

AGENCY: Nuclear Regulatory Commission.

ACTION: Notice; withdrawal by applicant.

SUMMARY: The U.S. Nuclear Regulatory Commission (NRC) has granted a request by Atomic Alchemy Inc., on behalf of Atomic Alchemy Operators LLC and VIPR Idaho LLC, to withdraw its construction permit application. The construction permit application was for a four-unit, non-power, light-water-cooled, pool-type Versatile Isotope Production Reactor facility to be located at the Idaho National Laboratory desert site, in Bingham County, Idaho.

DATES: January 28, 2026.

ADDRESSES: Please refer to Docket ID NRC-2025-1171 when contacting the NRC about the availability of information for this action. You may obtain publicly available information related to this action by any of the following methods:

• Federal Rulemaking website: Go to https://www.regulations.gov and search for Docket ID NRC-2025-1171. Address questions about Docket IDs in Regulations.gov to Bridget Curran; telephone: 301-415-1003; email: Bridget.Curran@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin ADAMS Public Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Justin Hudson, Office of Nuclear Reactor Regulation, U.S. Nuclear Regulatory Commission, Washington, DC 20555-0001; telephone: 301-287-0538; email: Justin.Hudson@nrc.gov.

SUPPLEMENTARY INFORMATION: The NRC has granted a request by Atomic Alchemy, Inc., on behalf of Atomic Alchemy Operators LLC and VIPR Idaho LLC, to withdraw its construction permit application dated September 12, 2025. The construction permit application was for a four-unit, non-power, light-water-cooled, pool-type Versatile Isotope Production Reactor (VIPR) facility to be located at the Idaho National Laboratory desert site, in Bingham County, Idaho. On November 28, 2025, the NRC published in the Federal Register a notice of receipt and availability (90 FR 54765) of the construction permit application. The construction permit application and the letter requesting its withdrawal dated December 19, 2025, are available in ADAMS under Accession Nos. ML25255A199 (package) and ML25353A630, respectively.

Dated: January 26, 2026.
For the Nuclear Regulatory Commission.
Jeffrey Rady,
Chief, Non-Power Production and Utilization Facility Licensing Branch, Division of Advanced Reactors and Non-Power Production and Utilization Facilities, Office of Nuclear Reactor Regulation.

[FR Doc. 2026-01704 Filed 1-27-26; 8:45 am]

BILLING CODE 7590-01-P